DEPARTMENT OF TRANSPORTATION

Federal Aviation Administration

14 CFR Part 121

[Docket No. FAA-2012-0429]

Airbus Operations GmbH Grant of Exemption No. 10611

AGENCY: Federal Aviation Administration (FAA), DOT.

ACTION: Notice of FAA Grant of Exemption No. 10611

SUMMARY: This document contains a summary of the agency's decision on a petition for exemption. The purpose of the document is to improve the public's awareness and inform affected operators of the FAA's decision.

DATES: The exemption became effective on August 28, 2012.

FOR FURTHER INFORMATION CONTACT: Frances Shaver, (202) 267-4059, Office of Rulemaking, Federal Aviation Administration, 800 Independence Avenue SW., Washington, DC 20591, or Katie Haley, (202) 493-5708, Office of Rulemaking, ARM-207, Federal Aviation Administration, 800 Independence Avenue SW., Washington, DC 20591.

ADDRESSES: Availability of the notice of exemption: You can obtain an electronic copy of this document or Exemption No. 10611 by—

1. Searching the Federal eRulemaking Portal at http://www.regulations.gov;

2. Accessing the Government Printing Office's Web page at http://www.gpo.gov/fdsys/browse/collection.action?collectionCode=FR; or

3. Contacting the person identified in the FOR FURTHER INFORMATION CONTACT section of this document.

SUPPLEMENTARY INFORMATION:

Summary of Grant of Exemption

Docket No.: FAA-2012-0429.

Petitioner: Airbus Operations GmbH.

Sections of 14 CFR Affected: Part 121.

On August 28, 2012, the FAA granted an exemption in the matter of the petition of Airbus Operations GmbH. The exemption from 14 CFR 121.344(f) and Appendix M is granted to the extent necessary to allow the operators of the Airbus model 318, 319, 320 and 321 airplanes listed in Exemption No. 10611 to temporarily operate these airplanes without complying with the digital flight data recorder sampling rate requirement, subject to the conditions and limitations listed in the exemption. Among other conditions and limitations, each operator of an affected airplane must, within 90 days of issuance of the exemption (August 28, 2012), submit a letter to its principal inspector that, among other things, includes a request to use Exemption No. 10611.

Issued in Washington, DC, on September 4, 2012.
Lirio Liu,
Acting Director, Office of Rulemaking.

[FR Doc. 2012-22095 Filed 9-6-12; 8:45 am]

BILLING CODE 4910-13-P